GENERAL SERVICES ADMINISTRATION

41 CFR Part 102-36

[FPMR Amendment H-205]

RIN 3090-AF39

Disposition of Excess Personal Property

Correction

In rule document 00-11921 beginning on page 31218 in the issue of Tuesday, May 16, 2000, make the following correction:

§102-36.125 [Corrected]

On pages 31223 and 31224, in §102-36.125(b), the table should read as set forth:

Type of property | GSA region | Location
Aircraft | 9 FBP | San Francisco, CA 94102.
Firearms | 7 FP-8 | Denver, CO 80225.
Foreign Gifts | FBP | Washington, DC 20406.
Forfeited Property | 3 FP | Washington, DC 20407.
Standard Forms | 7 FMP | Ft. Worth, TX 76102.
Vessels, civilian | 4 FD | Atlanta, GA 30365.
Vessels, DOD | 3 FPD | Philadelphia, PA 19107.

[FR Doc. C0-11921 Filed 5-24-00; 8:45 am]

BILLING CODE 1505-01-D